DEPARTMENT OF COMMERCE

International Trade Administration

Initiation of Antidumping and Countervailing Duty Administrative Reviews and Request for Revocation in Part

AGENCY: Import Administration, International Trade Administration, Department of Commerce.

SUMMARY: The Department of Commerce (the Department) has received requests to conduct administrative reviews of various antidumping and countervailing duty orders and findings with October anniversary dates. In accordance with the Department's regulations, we are initiating those administrative reviews. The Department also received a request to revoke one antidumping duty order in part.

Effective Date: November 27, 2006.

FOR FURTHER INFORMATION CONTACT: Sheila E. Forbes, Office of AD/CVD Operations, Office 4, Import Administration, International Trade Administration, U.S. Department of Commerce, 14th Street and Constitution Avenue, NW., Washington, DC 20230, telephone: (202) 482-4697.

SUPPLEMENTARY INFORMATION:

Background

The Department has received timely requests, in accordance with 19 CFR 351.213(b)(2002), for administrative reviews of various antidumping and countervailing duty orders and findings with October anniversary dates. The Department also received a timely request to revoke in part the antidumping duty order on Polyvinyl Alcohol from the People's Republic of China.

Initiation of Reviews: In accordance with section 19 CFR 351.221(c)(1)(i), we are initiating administrative reviews of the following antidumping and countervailing duty orders and findings. We intend to issue the final results of these reviews not later than October 31, 2007.

| Period to be reviewed
Antidumping Duty Proceedings
CANADA: Carbon and Certain Alloy Steel Wire Rod
A-122-840 | 10/1/05-9/30/06
Ivaco Rolling Mills 2004 L.P.
Mittal Canada Inc. (formerly Ispat Sidbec Inc.)
Sivaco Ontario Processing (a division of Sivaco Wire Group 2004 L.P.)
CANADA: Certain Hard Red Spring Wheat ¹
A-122-847 | 10/1/04-09/30/05
Canadian Wheat Board
MEXICO: Carbon and Certain Alloy Steel Wire Rod
A-201-830 | 10/1/05-9/30/06
Hylsa Puebla, S.A. de C.V.
Siderurgica Lazaro Cardenas Las Truchas S.A. de C.V.
THE PEOPLE'S REPUBLIC OF CHINA: Polyvinyl Alcohol ²
A-570-879 | 10/1/05-9/30/06
Sinopec Sichuan Vinylon Works
THE PEOPLE'S REPUBLIC OF CHINA: Certain Helical Spring Lock Washers ³
A-570-822 | 10/1/05-9/30/06
Hangzhou Spring Washer, Co., Ltd.
TRINIDAD AND TOBAGO: Carbon and Certain Alloy Steel Wire Rod
A-274-804 | 10/1/05-9/30/06
Mittal Steel Point Lisas Limited
Countervailing Duty Proceedings
CANADA: Certain Hard Red Spring Wheat ⁴
C-122-848 | 1/1/04-12/31/04
Canadian Wheat Board
IRAN: Roasted In-Shell Pistachios
C-507-601 | 1/1/05-12/31/05
Tehran Negah-Nima Trading Company, Inc.
Suspension Agreements
None.
¹ Pursuant to a request from the Canadian Wheat Board, the Department deferred the 10/01/2004-09/30/2005 antidumping duty review of hard red spring wheat for one year. See Initiation of Antidumping and Countervailing Duty Administrative Reviews and Deferral of Administrative Reviews, 70 FR 72107 (December 1, 2005). The Department is now automatically initiating this review one year later because we have not received a request to withdraw from the Canadian Wheat Board. We did not receive a request for a review of the 10/01/2005-01/01/2006 period.
² If the above-named company does not qualify for a separate rate, all other exporters of Polyvinyl Alcohol from the People's Republic of China who have not qualified for a separate rate are deemed to be covered by this review as part of the single PRC entity of which the named exporter is a part.
³ If the above-named company does not qualify for a separate rate, all other exporters of Certain Helical Spring Lock Washers from the People's Republic of China who have not qualified for a separate rate are deemed to be covered by this review as part of the single PRC entity of which the named exporter is a part.
⁴ Pursuant to a request from the Canadian Wheat Board, the Department deferred the 01/01/2004-12/31/2004 countervailing duty review of hard red spring wheat for one year. See Initiation of Antidumping and Countervailing Duty Administrative Reviews and Deferral of Administrative Reviews, 70 FR 72107 (December 1, 2005). The Department is now automatically initiating this review one year later because we have not received a request to withdraw from the Canadian Wheat Board. We did not receive a request for a review of the 1/1/2005-1/1/2006 period.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistent with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: November 20, 2006.
Stephen J. Claeys,
Deputy Assistant Secretary for Import Administration.

[FR Doc. E6-20013 Filed 11-24-06; 8:45 am]

BILLING CODE 3510-DS-P